CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. Currently, the Corporation is soliciting comments concerning its request for approval of a new information collection from representatives of communities served by organizations that conduct community service activities under the sponsorship of Corporation grants. This information will be used by the Corporation to evaluate the nature and effectiveness of its national service programs.

Copies of the proposed information collection request may be obtained by contacting the office listed below in the ADDRESSES section of this notice.

DATES: Written comments must be submitted to the office listed in the ADDRESSES section by May 26, 2000.

ADDRESSES: Send comments to the Corporation for National and Community Service Attn: Marcia Scott, Office of Evaluation, 1201 New York Avenue, N.W., 9th floor, Washington, D.C. 20525.

FOR FURTHER INFORMATION CONTACT: Marcia Scott, (202) 606-5000, ext. 100.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including through the use of appropriate automated, electronic, mechanical, or other technological collection techniques or other forms of information technology, e.g., permitting electronic submissions of responses.

Background

The Corporation for National Service has the responsibility to evaluate the effectiveness of its programs. The Corporation's major initiative is AmeriCorps, the national service program funded at $435 million annually. While the primary emphasis of AmeriCorps is on providing services to communities and other beneficiaries, of key importance is participant development. AmeriCorps includes the State/National program and the National Civilian Community Corps (NCCC) program. The objectives of this study are to describe the outcomes that are associated with participating and document changes in those outcomes over time; to identify factors explaining variation in outcomes at different stages of time; and to identify relationships between selected program features and member outcomes. Outcome domains will include civic engagement, educational skill aspiration and achievements, employment skill aspiration and achievements, and life skills.

To meet these objectives, the study has selected a nationally representative sample of 2,500 incoming AmeriCorps members from over 100 programs to ensure generalizability to the overall population. The Corporation is conducting a study to collect baseline data from a self-report survey measuring a variety of life outcomes for AmeriCorps members of State/National and NCCC programs as well as individual background characteristics. To fully understand the impacts that cause change in outcomes, the Corporation has selected a comparison group for both programs and is in the process of collecting baseline information on those individuals.

Current Action

The Corporation seeks approval to continue to study the impact of AmeriCorp*State/National and AmeriCorps*NCCC on members over time. The initial round of data collection for this study was authorized under OMB approval 3045-0060 which expires September 30, 2002. This is a request to conduct two additional rounds of data collection on the study: (1) Surveys of treatment and comparsion group members at two time points: ten months and two years after baseline; and (2) a survey of AmeriCorps program administrators at the end of the 1999-2000 program year.

Type of Review: New approval.

Agency: Corporation for National and Community Service.

Title: Long-term Study of Member Outcomes.

OMB Number: None.

Agency Number: None.

Affected Public: AmeriCorps members, comparison group individuals, AmeriCorps program administrators.

Total Respondents: 4613.

• 2,500 AmeriCorps members (2,000 State/National and 500 NCCC).

• 2,000 individuals in the comparison groups (1,500 individuals who inquired about AmeriCorps through the CNS inquiry line for the State/National comparison group; 500 individuals from the NCCC program's wait list for the NCCC comparison group).

• 113 AmeriCorps program administrators.

Frequency:

• AmeriCorps members at post-program (eight months after baseline).

• Comparison group individuals eight months after baseline.

• Program characteristics from AmeriCorps administrators.

• AmeriCorps member and comparison group follow-up at three years after baseline (approximately two years after the post-program survey).

Average Time Per Response:

• The Post-program survey of members will require an average of 45 minutes per respondent.

• The initial follow-up survey of individuals in the comparison groups will take an average of 30 minutes per respondent.

• The survey of AmeriCorps program administrators will take an average of 30 minutes per program.

• Follow-up surveys of AmeriCorps members and individuals in the comparison group at three years after baseline will take an average of 30 minutes per respondent.

Estimated Total Burden Hours: 5,182 hours.

Total Burden Cost (capital/startup): None.

Total Burden Cost (operating/maintenance): None.

Comments submitted in response to this notice will be summarized and/or included in the request for Office of Management and Budget approval of the information collection request; they also will become a matter of public record.

Dated: March 21, 2000.
Thomasenia P. Duncan,
General Counsel.

[FR Doc. 00-7393 Filed 3-24-00; 8:45 am]

BILLING CODE 6050-28-U